ENVIRONMENTAL PROTECTION AGENCY

[OCS-EPA-R4005; FRL-9449-7]

Notice of Issuance of Final Outer Continental Shelf Air Permit for Anadarko Petroleum Corporation

AGENCY: Environmental Protection Agency (EPA).

ACTION: Notice of final action.

SUMMARY: This notice is to announce that on June 15, 2011, EPA issued a final Outer Continental Shelf (OCS) air permit for Anadarko Petroleum Corporation (Anadarko). The permit authorizes Anadarko to mobilize the Transocean Discoverer Spirit drill ship and support vessels to drill a single exploration well in the Gulf of Mexico, at Lloyd Ridge Lease Block 410, to determine if natural gas reserves are present in this location. The drill site is located approximately 200 miles southwest of Panama City, Florida. The operation will last less than 92 days, and based on applicable permitting regulations, is a “temporary source” for permitting purposes.

DATES: Effective Date: This permit became effective on July 15, 2011.

ADDRESSES: The final permit, EPA's responses to the public comments and additional supporting information are available at http://www.epa.gov/region4/air/permits/OCSPermits/AnadarkoOCS.html. Copies of the final permit and EPA's responses to comments are also available upon request in writing. EPA requests that if at all possible, you contact the person listed in the FOR FURTHER INFORMATION CONTACT section to schedule your inspection. The Regional Office's official hours of business are Monday through Friday, 8:30 to 4:30 excluding Federal holidays.

FOR FURTHER INFORMATION CONTACT: Gregg Worley, Air Permits Section, Air Planning Branch, Air, Pesticides and Toxics Management Division, Region 4, U.S. Environmental Protection Agency, 61 Forsyth Street, SW., Atlanta, Georgia 30303-8960. The telephone number is (404) 562-9141. Mr. Worley can also be reached via electronic mail at worley.gregg@epa.gov.

SUPPLEMENTARY INFORMATION: On March 25, 2011, the EPA Region 4 Office requested public comments on a proposal to issue an OCS air permit for Anadarko. During the public comment period, which ended on April 25, 2011, EPA received comments from Offshore Operators Committee and Anadarko Petroleum Corporation regarding the project. EPA carefully reviewed each of the comments submitted and, after consideration of the expressed view of all interested persons, the pertinent federal statutes and regulations, and additional material relevant to the application and contained in the administrative record, EPA made a decision in accordance with title 40 CFR 52.21 and 40 CFR part 55 to issue a final OCS permit.

40 CFR 124.19(f)(2) requires notice of any final Agency action regarding a prevention of significant deterioration (PSD) permit to be published in the Federal Register. Section 307(b)(1) of the Clean Air Act (CAA) provides for review of final Agency action that is locally or regionally applicable in the United States Court of Appeals for the appropriate circuit. Such a petition for review of final Agency action must be filed within 60 days from the date of notice of such action in the Federal Register. (However, 40 CFR 124.19(f)(1) provides that, for purposes of judicial review under the CAA, final Agency action occurs when a final PSD permit is issued or denied by EPA and agency review procedures are exhausted.) Any person who filed comments on the draft permit was provided the opportunity to petition the Environmental Appeals Board by July 15, 2011. No petitions were submitted, therefore the permit became effective on July 15, 2011.

Dated: July 29, 2011.
Beverly H. Banister,
Director, Air, Pesticides and Toxics Management Division, Region 4.

[FR Doc. 2011-20213 Filed 8-8-11; 8:45 am]

BILLING CODE 6560-50-P